DEPARTMENT OF AGRICULTURE

Forest Service

Intermountain Region, Boise, Payette, and Sawtooth National Forests; ID; Amendment to the 2003 Land and Resource Management Plans: Wildlife Conservation Strategy (Forested Biological Community)

AGENCY: Forest Service, USDA.

ACTION: Second correction of notice of intent (NOI) to prepare an environmental impact statement (EIS).

SUMMARY: On December 8, 2008, the Forest Service corrected a notice of intent (NOI) to prepare one EIS to disclose the environmental effects of proposed nonsignificant amendments to the three Southwest Idaho Ecogroup (SWIE) 2003 Land and Resource Management Plans (Forest Plans). The December 8, 2008, NOI corrected a September 14, 2007 NOI, in part to reflect a delay of more than a year in filing the draft EIS. The December 8, 2008 NOI is now being corrected to reflect that three EISs will be prepared (one for each Forest) instead of one EIS addressing all three Forests.

DATES: The draft EISs for the three Forests are expected to be available in the fall of 2009 for a 45-day public comment period. The final EISs and three Records of Decision (RODs), one for each Forest Plan, are expected to be completed by winter 2009.

FOR FURTHER INFORMATION CONTACT: Randall Hayman, Forest Planner, Boise National Forest; 1249 South Vinnell Way, Suite 200, Boise, Idaho 83709; telephone 208-373-4100.

Individuals who use telecommunication devices for the deaf (TDD) may call the Federal Information Relay Service (FIRS) at 1-800-877-8339 between 8 a.m. and 8 p.m., Eastern Time, Monday through Friday.

SUPPLEMENTARY INFORMATION: The three Forests have decided to prepare three separate EISs to disclose the environmental effects of proposed nonsignificant amendments to each Forest Plan. The proposed Forest Plan amendments would add and/or modify existing management direction as needed to implement a Forest Plan-level, wildlife conservation strategy (WCS) for the forested biological community for the Boise, Payette, and Sawtooth National Forests, respectively. The Forests decided to prepare three separate EISs to reduce the complexity arising from one single EIS addressing a wide diversity of terrestrial wildlife species and forested habitats across approximately 6.6 million acres, and to reflect each Forest's reliance on a Forest Plan and ROD specific to that Forest. Each of the three EISs will describe cumulative effects to identified species, using analysis areas appropriate for and specific to these species. Additional information about the proposed amendments, including the purpose and need and proposed action. can be found in the September 14, 2007, NOI (Federal Register, Vol 72, No. 178, pp. 52540-52542) and the December 8, 2008, NOI (Federal Register, Vol 73, No. 236, pp. 74455-74456).

Information about and status updates of the amendment process will continue to be posted on the Web site, http://fs.usda.gov/boise (click on “WildIife Conservation Strategy”).

Responsible Officials: The Responsible Officials are the three Forest Supervisors for the Boise, Payette, and Sawtooth NFs.

Nature of Decision To Be Made: Each Responsible Official will review the final EIS for her respective Forest and determine if the 2003 Plan for her Forest should be amended and/or modified, or if the current Forest Plan should remain unchanged.

Dated: April 14, 2009.
Cecilia R. Seesholtz,
Forest Supervisor, Boise National Forest.

[FR Doc. E9-9093 Filed 4-21-09; 8:45 am]

BILLING CODE 3410-11-M